NATIONAL SCIENCE FOUNDATION

Sunshine Act Meetings

FEDERAL REGISTER CITATION OF PREVIOUS ANNOUNCEMENT: This meeting was noticed on April 20, 2023, at 88 FR 24452.

PREVIOUSLY ANNOUNCED TIME AND DATE OF THE MEETING: Wednesday, April 26, 2023, at 11:00-11:30 a.m. EDT.

CHANGES IN THE MEETING: This meeting is CANCELLED.

CONTACT PERSON FOR MORE INFORMATION: Point of contact for this meeting is: Chris Blair, cblair@nsf.gov, 703/292-7000.

Christopher Blair,
Executive Assistant to the National Science Board Office.

[FR Doc. 2023-09110 Filed 4-26-23; 11:15 am]

BILLING CODE 7555-01-P